LEGAL SERVICES CORPORATION

Notice of Funds and Request for Applications for 2019 Disaster Supplemental Grant Funding

AGENCY: Legal Services Corporation.

ACTION: Notice.

SUMMARY: The Legal Services Corporation (LSC) issues this Notice describing the application and award process for up to $14,250,000 of grants to support delivery of legal services related to the consequences of Hurricanes Florence, Michael, and Lane; the Typhoons Yutu and Mangkhut; calendar year 2018 wildfires, volcanic eruptions, and earthquakes; and calendar year 2019 tornadoes and floods.

DATES: Applications must be submitted by 11:59 p.m. E.S.T. on September 9, 2019.

ADDRESSES: Applicants must email applications to emergencygrants@lsc.gov. LSC will not accept hard copy applications.

FOR FURTHER INFORMATION CONTACT: Application instructions are in the Notice of Funds and Request for Applications available at www.lsc.gov/disastergrants. We strongly encourage you to seek technical assistance from LSC's disaster team (Marty Costello and John Eidleman) while completing your applications. Please register for a time to speak with the team about your application by using this web address: https://calendly.com/probonoinnovationfund/2019-disaster-supplemental-technical-assistance. For more information or to reach a member of the Disaster Team, please send an email to emergencygrants@lsc.gov.

SUPPLEMENTARY INFORMATION: The Legal Services Corporation (LSC) is accepting applications from current LSC grantees for grants to support delivery of legal services related to the consequences of Hurricanes Florence, Michael, and Lane; the Typhoons Yutu and Mangkhut; calendar year 2018 wildfires, volcanic eruptions, and earthquakes; and calendar year 2019 tornadoes and floods. LSC will have approximately $14,250,000 available for these grants. Grant decisions for these funds will be made in fall 2019. There is no maximum amount for these grants within the total funding available. LSC recommends submitting applications with a budget of at least $250,000. LSC will fund grants for 24-month grant terms. All application materials and budgets must cover the entire grant term. Application materials and descriptions of eligible activities, grant requirements and the review and selection process are posted in the Notice of Funds and Request for Applications available at www.lsc.gov/disastergrants. LSC will post all additional information regarding this grant process at that website.

Eligible Applicants

To be eligible for Project grants, applicants must be current grantees of LSC grants for Basic Field-General, Basic Field-Migrant, or Basic Field-Native American funding. Eligible applicants must be providing legal services in areas significantly affected by of Hurricanes Florence, Michael, and Lane; Typhoons Yutu and Mangkhut; calendar year 2018 wildfires, volcanic eruptions, and earthquakes; and calendar year 2019 tornadoes and floods. Those areas include all areas covered by Major Disaster Declarations for the for the above-named events by the Federal Emergency Management Agency (FEMA) (https://www.fema.gov/disasters). If you are not sure if you qualify, please send your question to emergencygrants@lsc.gov.

Eligible Activities and Expenses

Applicants are permitted to use these funds for any activities and expenses that are allowable pursuant to the Legal Services Corporation Act as long as they are related to the consequences of Hurricanes Florence, Michael, and Lane, Typhoons Yutu and Mangkhut, calendar year 2018 wildfires, volcanic eruptions, and earthquakes, and calendar year 2019 tornadoes and floods. Funds from these grants cannot be used for disaster preparedness activities for future disasters, except insofar as funded activities undertaken to respond to the listed disasters will also have continuing value in preparing for and responding to future disasters.

In addition to hiring and supporting staff, eligible activities include everything from the leasing of new office space in an area hard-hit by a disaster and adjacent to survivors with legal needs related to the disaster, to the purchase of office equipment and supplies, to the hiring of a project or grant manager, to the hiring of other administrative support staff—as long as these activities and expenses are related to the consequences of the disasters listed above.

Reimbursement of Pre-Award Disaster Expenses

Grants can support (1) prospective expenses and activities that will occur during the grant term; and (2) pre-award expenses and activities that otherwise meet all the grant criteria involving responding to the eligible disasters for efficient and timely provision of any of the disaster-response resources. All costs for which reimbursement is sought, whether incurred pre-award or post-award, must meet LSC requirements. LSC will provide a procedure for handling prior approvals for already-incurred costs that you did not expect to charge to LSC funds.

Dated: August 15, 2019.
Mark F. Freedman,
Senior Associate General Counsel.

[FR Doc. 2019-17911 Filed 8-19-19; 8:45 am]

BILLING CODE P